DEPARTMENT OF TRANSPORTATION

Federal Aviation Administration

14 CFR Part 39

[Docket No. FAA-2022-1298; Project Identifier MCAI-2022-00437-T; Amendment 39-22313; AD 2023-02-06]

RIN 2120-AA64

Airworthiness Directives; BAE Systems (Operations) Limited Airplanes

AGENCY: Federal Aviation Administration (FAA), Department of Transportation (DOT).

ACTION: Final rule.

SUMMARY: The FAA is superseding Airworthiness Directives (ADs) 2005-15-11, 2016-07-09, and 2018-19-24, which applied to all BAE Systems (Operations) Limited Model 4101 airplanes. AD 2005-15-11 required repetitive detailed and specialized inspections to detect fatigue damage in the fuselage, replacement of certain bolt assemblies, and corrective actions if necessary. AD 2016-07-09 required a revision of the maintenance or inspection program, as applicable. AD 2018-19-24 required a one-time detailed inspection of a certain fuselage frame and repair, if necessary, and a revision of the maintenance or inspection program, as applicable, to incorporate new or revised maintenance instructions and airworthiness limitations. This AD was prompted by a determination that new or more restrictive airworthiness limitations are necessary. This AD continues to require the actions in ADs 2016-07-09 and 2018-19-24 and requires revising the existing maintenance or inspection program, as applicable, to incorporate new or more restrictive airworthiness limitations. The FAA is issuing this AD to address the unsafe condition on these products.

DATES: This AD is effective March 14, 2023.

The Director of the Federal Register approved the incorporation by reference of certain publications listed in this AD as of March 14, 2023.

The Director of the Federal Register approved the incorporation by reference of certain other publications listed in this AD as of November 7, 2018 (83 FR 49786, October 3, 2018).

The Director of the Federal Register approved the incorporation by reference of certain other publications listed in this AD as of May 16, 2016 (81 FR 21263, April 11, 2016).

ADDRESSES:

AD Docket: You may examine the AD docket at regulations.gov under Docket No. FAA-2022-1298; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact BAE Systems (Operations) Limited, Customer Information Department, Prestwick International Airport, Ayrshire, KA9 2RW, Scotland, United Kingdom; telephone +44 1292 675207; fax +44 1292 675704; email RApublications@baesystems.com; website regional-services.com.

• You may view this service information at the FAA, Airworthiness Products Section, Operational Safety Branch, 2200 South 216th St., Des Moines, WA. For information on the availability of this material at the FAA, call 206-231-3195. It is also available at regulations.gov under Docket No. FAA-2022-1298.

FOR FURTHER INFORMATION CONTACT: Todd Thompson, Aerospace Engineer, Large Aircraft Section, FAA, International Validation Branch, 2200 South 216th St., Des Moines, WA 98198; telephone 206-231-3228; email todd.thompson@faa.gov.

SUPPLEMENTARY INFORMATION:

Background

The FAA issued a notice of proposed rulemaking (NPRM) to amend 14 CFR part 39 to supersede AD 2005-15-11, Amendment 39-14200 (70 FR 43025, July 26, 2005) (AD 2005-15-11). AD 2005-15-11 applied to all BAE Systems (Operations) Limited Model 4101 airplanes. AD 2005-15-11 required repetitive detailed and specialized inspections to detect fatigue damage in the fuselage, replacement of certain bolt assemblies, and corrective actions if necessary. The FAA issued AD 2005-15-11 to address fatigue damage of the fuselage, door, engine nacelle, empennage, and wing structures, which could result in reduced structural integrity of the airplane.

The FAA also proposed to supersede AD 2016-07-09, Amendment 39-18454 (81 FR 21263, April 11, 2016) (AD 2016-07-09). AD 2016-07-09 applied to all BAE Systems (Operations) Limited Model 4101 airplanes. AD 2016-07-09 required a revision of the maintenance or inspection program. The FAA issued AD 2016-07-09 to address failure of certain structurally significant items, including the main landing gear and nose landing gear, which could result in reduced structural integrity of the airplane; and to prevent fuel vapor ignition sources, which could result in a fuel tank explosion and consequent loss of the airplane.

The FAA also proposed to supersede AD 2018-19-24, Amendment 39-19425 (83 FR 49786, October 3, 2018) (AD 2018-19-24). AD 2018-19-24 applied to all BAE Systems (Operations) Limited Model 4101 airplanes. AD 2018-19-24 required a one-time detailed inspection of a certain fuselage frame and repair, if necessary, and a revision of the maintenance or inspection program, as applicable, to incorporate new or revised maintenance instructions and airworthiness limitations. The FAA issued AD 2018-19-24 to address cracking in fuselage frame 90, which could cause it to fail and thereby compromise the structural integrity of the aircraft pressure hull. The FAA also issued AD 2018-19-24 to address fatigue damage of various airplane structures, which could result in reduced structural integrity of the airplane. AD 2018-19-24 specifies that accomplishing the revision required by that AD terminates all requirements of AD 2005-15-11.

The NPRM published in the Federal Register on October 21, 2022 (87 FR 63973). The NPRM was prompted by AD G-2022-0006, dated March 30, 2022, issued by the Civil Aviation Authority (CAA), which is the aviation authority for the United Kingdom (U.K.) (U.K. CAA) (referred to after this as the MCAI). The MCAI states that the repetitive inspection requirements for Structural Significant Items (SSI) 53-10-029 were not addressed in European Union Aviation Safety Agency (EASA) AD 2017-0187, and additional SSI inspections are necessary (inspections for cracking of Hi-Shear (now LISL) collars). The MCAI also states that failure to comply with new or more restrictive actions could result in an unsafe condition.

In the NPRM, the FAA proposed to continue to require the actions in ADs 2016-07-09 and 2018-19-24 and require revising the existing maintenance or inspection program, as applicable, to incorporate new or more restrictive airworthiness limitations. The FAA is issuing this AD to address fatigue damage of various airplane structures and failure of certain structurally significant items, which could result in reduced structural integrity of the airplane. The FAA is also issuing this AD to address fuel vapor ignition sources, which could result in a fuel tank explosion and consequent loss of the airplane.

You may examine the MCAI in the AD docket at regulations.gov under Docket No. FAA-2022-1298.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

The FAA reviewed Chapter 05, “Airworthiness Limitations,” of BAE Systems (Operations) Limited J41 Aircraft Maintenance Manual (AMM), Effectivity Group 403, Revision 44, dated June 15, 2021; and BAE Systems (Operations) Limited J41 AMM, Effectivity Group 408, Revision 44, dated June 15, 2021. This service information specifies airworthiness limitations for fuel tank systems and certification maintenance requirements. “Effectivity Group” is not specifically stated on these documents. However, “403” and “408,” which are stated on the pages of the applicable documents (except for the title pages), refer to the effective groups of airplanes specified within the fleet code listings. These documents are distinct since they apply to different airplanes.

This AD also requires:

• Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 AMM, Revision 38, dated September 15, 2013, which the Director of the Federal Register approved for incorporation by reference as of May 16, 2016 (81 FR 21263, April 11, 2016);

• BAE Systems (Operations) Limited Service Bulletin J41-51-001, Revision 4, dated July 11, 2017, which the Director of the Federal Register approved for incorporation by reference as of November 7, 2018 (83 FR 49786, October 3, 2018); and

• BAE Systems (Operations) Limited Alert Service Bulletin J41-A53-058, dated December 6, 2016, which the Director of the Federal Register approved for incorporation by reference as of November 7, 2018 (83 FR 49786, October 3, 2018).

This service information is reasonably available because the interested parties have access to it through their normal course of business or by the means identified in the ADDRESSES section.

Costs of Compliance

The FAA estimates that this AD would affect 10 airplanes of U.S. registry. The FAA estimates the following costs to comply with this AD:

The FAA estimates the total cost per operator for the retained actions from AD 2016-07-09 to be $7,650 (90 work-hours × $85 per work-hour).

The FAA estimates the total cost per operator for the retained maintenance or inspection program revision from AD 2018-19-24 to be $7,650 (90 work-hours × $85 per work-hour).

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

The FAA estimates the total cost per operator for the new actions to be $7,650 (90 work-hours × $85 per work-hour).

Estimated Costs for Required Actions
Action | Labor cost | Parts cost | Cost per product | Cost on U.S. operators
Inspection (Retained actions from AD 2018-19-24) | 2 work-hours × $85 per hour = $170 | $0 | $170 | $1,700

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2005-15-11, Amendment 39-14200 (70 FR 43025, July 26, 2005); AD 2016-07-09, Amendment 39-18454 (81 FR 21263, April 11, 2016); and AD 2018-19-24, Amendment 39-19425 (83 FR 49786, October 3, 2018); and

b. Adding the following new AD:

2023-02-06 BAE Systems (Operations) Limited: Amendment 39-22313; Docket No. FAA-2022-1298; Project Identifier MCAI-2022-00437-T.

(a) Effective Date

This airworthiness directive (AD) is effective March 14, 2023.

(b) Affected ADs

(1) This AD replaces AD 2005-15-11, Amendment 39-14200 (70 FR 43025, July 26, 2005) (AD 2005-15-11).

(2) This AD replaces AD 2016-07-09, Amendment 39-18454 (81 FR 21263, April 11, 2016) (AD 2016-07-09).

(3) This AD replaces AD 2018-19-24, Amendment 39-19425 (83 FR 49786, October 3, 2018) (AD 2018-19-24).

(c) Applicability

This AD applies to all BAE Systems (Operations) Limited Model 4101 airplanes, certificated in any category.

(d) Subject

Air Transport Association (ATA) of America Code 05, Time Limits/Maintenance Checks.

(e) Reason

This AD was prompted by a determination that new or more restrictive airworthiness limitations are necessary. The FAA is issuing this AD to address fatigue damage of various airplane structures and failure of certain structurally significant items, which could result in reduced structural integrity of the airplane. The FAA is also issuing this AD to address fuel vapor ignition sources, which could result in a fuel tank explosion and consequent loss of the airplane.

(f) Compliance

Comply with this AD within the compliance times specified, unless already done.

(g) Retained Revision of the Existing Maintenance or Inspection Program (From AD 2016-07-09), With No Changes

This paragraph restates the requirements of paragraph (i) of AD 2016-07-09, with no changes. Within 90 days after May 16, 2016 (the effective date of AD 2016-07-09): Revise the existing maintenance or inspection program, as applicable, by incorporating Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 Aircraft Maintenance Manual (AMM), Revision 38, dated September 15, 2013. The initial compliance times for the tasks are at the applicable times specified in paragraphs (g)(1) through (3) of this AD. Accomplishing the revision of the existing maintenance or inspection program required by paragraph (m) of this AD terminates the requirements of this paragraph.

(1) For replacement tasks of life limited parts specified in Subject 05-10-10, “Airworthiness Limitations,” of Chapter 05, “Airworthiness Limitations,” of the BAE Systems (Operations) Limited J41 AMM, Revision 38, dated September 15, 2013: Prior to the applicable flight cycles (landings) or flight hours (flying hours) on the part specified in the “Mandatory Life Limits” column in Subject 05-10-10, or within 90 days after May 16, 2016 (the effective date of AD 2016-07-09), whichever occurs later.

(2) For structurally significant item tasks specified in Subject 05-10-10, “Airworthiness Limitations,” of Chapter 05, “Airworthiness Limitations,” of the BAE Systems (Operations) Limited J41 AMM, Revision 38, dated September 15, 2013: Prior to the accumulation of the applicable flight cycles specified in the “Initial Inspection” column in Subject 05-10-10, or within 90 days after May 16, 2016 (the effective date of AD 2016-07-09), whichever occurs later.

(3) For certification maintenance requirements tasks specified in Subject 05-10-20, “Certification Maintenance Requirements,” of Chapter 05, “Airworthiness Limitations,” of the BAE Systems (Operations) Limited J41 AMM, Revision 38, dated September 15, 2013: Prior to the accumulation of the applicable flight hours specified in the “Time Between Checks” column in Subject 05-10-20, or within 90 days after May 16, 2016 (the effective date of AD 2016-07-09), whichever occurs later; except for tasks that specify “first flight of the day” in the “Time Between Checks” column in Subject 05-10-20, the initial compliance time is the first flight of the next day after doing the revision required by paragraph (g) of AD 2016-07-09, or within 90 days after May 16, 2016, whichever occurs later.

(h) Retained Restrictions on Alternative Actions, Intervals, and/or CDCCLs, With No Changes

This paragraph restates the requirements of paragraph (j) of AD 2016-07-09, with no changes. Except as required by paragraph (m) of this AD, after the existing maintenance or inspection program, as applicable, has been revised as required by paragraph (g) of this AD, no alternative actions (e.g., inspections), intervals, and/or CDCCLs may be used unless the actions, intervals, and/or CDCCLs are approved as an alternative method of compliance (AMOC) in accordance with the procedures specified in paragraph (o)(1) of this AD.

(i) Retained Inspection, With No Changes

This paragraph restates the requirements of paragraph (g) of AD 2018-19-24, with no changes. At the compliance times specified in paragraphs (i)(1) and (2) of this AD, as applicable: Do a detailed inspection of fuselage frame 90 for cracking or fatigue damage, in accordance with the Accomplishment Instructions of BAE Systems (Operations) Limited Alert Service Bulletin J41-A53-058, dated December 6, 2016. If any cracking or fatigue damage is found: Before further flight, repair using a method approved by the Manager, International Section, Transport Standards Branch, FAA; or the European Aviation Safety Agency (EASA); or BAE Systems (Operations) Limited's EASA Design Organization Approval (DOA). Accomplishing the revision of the existing maintenance or inspection program required by paragraph (m) of this AD terminates the requirements of this paragraph.

(1) For airplanes with 6,300 flight cycles or fewer since Structural Significant Items (SSI) 53-10-029 (Maintenance Planning Document (MPD) 531029-DVl-10010-1) was last accomplished: Within 6,600 flight cycles after the last accomplishment of SSI 53-10-029 (MPD 531029-DVl-10010-1), or within 6 months after November 7, 2018 (the effective date of AD 2018-19-24), whichever is later.

(2) For airplanes with more than 6,300 flight cycles since SSI 53-10-029 (MPD 531029-DVl-10010-1) was last accomplished: Within 300 flight cycles or 4.5 months, whichever is earlier, since the last accomplishment of SSI 53-10-029 (MPD 531029-DVl-10010-1), or within 6 months after November 7, 2018 (the effective date of AD 2018-19-24), whichever is later.

(j) Retained Revision of Existing Maintenance or Inspection Program (From AD 2018-19-24), With No Changes

This paragraph restates the requirements of paragraph (h) of AD 2018-19-24, with no changes. Within 90 days after November 7, 2018 (the effective date of AD 2018-19-24): Revise the existing maintenance or inspection program, as applicable, by incorporating the maintenance tasks and associated thresholds and intervals described in, and in accordance with, the Accomplishment Instructions of BAE Systems (Operations) Limited Service Bulletin J41-51-001, Revision 4, dated July 11, 2017. The initial compliance times for new or revised tasks are at the applicable times specified in BAE Systems (Operations) Limited Service Bulletin J41-51-001, Revision 4, dated July 11, 2017, or within 6 months after November 7, 2018, whichever is later. Accomplishing the revision of the existing maintenance or inspection program required by paragraph (m) of this AD terminates the requirements of this paragraph.

(k) Retained No Alternative Actions and Intervals, With No Changes

This paragraph restates the requirements of paragraph (i) of AD 2018-19-24, with no changes. Except as required by paragraph (m) of this AD: After the existing maintenance or inspection program has been revised as required by paragraph (j) of this AD, no alternative actions (e.g., inspections) or intervals may be used unless the actions or intervals are approved as an AMOC in accordance with the procedures specified in paragraph (o)(1) of this AD.

(l) Retained No Reporting Requirement, With No Changes

This paragraph restates the requirements of paragraph (k) of AD 2018-19-24, with no changes. Although the Accomplishment Instructions of BAE Systems (Operations) Limited Alert Service Bulletin J41-A53-058, dated December 6, 2016, specify to submit certain information to the manufacturer, this AD does not include that requirement.

(m) New Revision of the Existing Maintenance or Inspection Program

Within 90 days after the effective date of this AD: Revise the existing maintenance or inspection program, as applicable, by incorporating Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 AMM, Effectivity Group 403, Revision 44, dated June 15, 2021; or BAE Systems (Operations) Limited J41 AMM, Effectivity Group 408, Revision 44, dated June 15, 2021; as applicable. The initial compliance times for the tasks are at the applicable times specified in paragraphs (m)(1) through (3) of this AD. Accomplishing the revision of the existing maintenance or inspection program required by this paragraph terminates the actions required by paragraphs (g), (i) and (j) of this AD.

(1) For replacement tasks of life limited parts specified in Subject 05-10-10, “Airworthiness Limitations,” of Chapter 05, “Airworthiness Limitations,” of the BAE Systems (Operations) Limited J41 AMM, Effectivity Group 403, Revision 44, dated June 15, 2021; or BAE Systems (Operations) Limited J41 AMM, Effectivity Group 408, Revision 44, dated June 15, 2021; as applicable: Prior to the applicable flight cycles (landings) or flight hours (flying hours) on the part specified in the “Mandatory Life Limits” column in Subject 05-10-10, or within 90 days after the effective date of this AD, whichever occurs later.

(2) For structurally significant item tasks specified in Subject 05-10-10, “Airworthiness Limitations,” of Chapter 05, “Airworthiness Limitations,” of the BAE Systems (Operations) Limited J41 AMM, Effectivity Group 403, Revision 44, dated June 15, 2021; or BAE Systems (Operations) Limited J41 AMM, Effectivity Group 408, Revision 44, dated June 15, 2021; as applicable: Prior to the accumulation of the applicable flight cycles specified in the “Initial Inspection” column in Subject 05-10-10, or within 90 days after the effective date of this AD, whichever occurs later.

(3) For certification maintenance requirements tasks specified in Subject 05-10-20, “Certification Maintenance Requirements,” of Chapter 05, “Airworthiness Limitations,” of the BAE Systems (Operations) Limited J41 AMM, Effectivity Group 403, Revision 44, dated June 15, 2021; or BAE Systems (Operations) Limited J41 AMM, Effectivity Group 408, Revision 44, dated June 15, 2021; as applicable: Prior to the accumulation of the applicable flight hours specified in the “Time Between Checks” column in Subject 05-10-20, or within 90 days after the effective date of this AD, whichever occurs later; except for tasks that specify “first flight of the day” in the “Time Between Checks” column in Subject 05-10-20, the initial compliance time is the first flight of the next day after accomplishing the revision required by paragraph (m) of this AD, or within 90 days after the effective date of this AD, whichever occurs later.

(n) New No Alternative Actions, Intervals, or CDCCLs

After the existing maintenance or inspection program has been revised as required by paragraph (m) of this AD, no alternative actions (e.g., inspections), intervals, or CDCCLs may be used unless the actions, intervals, and CDCCLs are approved as an AMOC in accordance with the procedures specified in paragraph (o)(1) of this AD.

(o) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (p)(2) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the United Kingdom Civil Aviation Authority (U.K. CAA); or BAE Systems (Operations) Limited's U.K. CAA Design Organization Approval (DOA). If approved by the DOA, the approval must include the DOA-authorized signature.

(p) Additional Information

(1) Refer to U.K. CAA AD G-2022-0006, dated March 30, 2022, for related information. This U.K. CAA AD may be found in the AD docket at regulations.gov under Docket No. FAA-2022-1298.

(2) For more information about this AD, contact Todd Thompson, Aerospace Engineer, Large Aircraft Section, FAA, International Validation Branch, 2200 South 216th St., Des Moines, WA 98198; telephone 206-231-3228; email todd.thompson@faa.gov.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 14, 2023.

(i) Chapter 05, “Airworthiness Limitations,” of BAE Systems (Operations) Limited J41 Aircraft Maintenance Manual (AMM), Effectivity Group 403, Revision 44, dated June 15, 2021.

Note 1 to paragraph (q)(3)(i): This note applies to paragraphs (q)(3)(i) and (ii) of this AD. Page 1 of the “Publications Transmittal” is the only page that shows the revision level of this document.

Note 2 to paragraph (q)(3)(i): This note applies to paragraphs (q)(3)(i) and (ii) of this AD. “Effectivity Group” is not specifically stated on the document. However, “403” and “408,” which are stated on the pages of the applicable documents (except for the title pages), refer to the effective groups of airplanes specified within the fleet code listings.

(ii) Chapter 05, “Airworthiness Limitations,” of BAE Systems (Operations) Limited J41 AMM, Effectivity Group 408, Revision 44, dated June 15, 2021.

(4) The following service information was approved for IBR on November 7, 2018 (83 FR 49786, October 3, 2018).

(i) BAE Systems (Operations) Limited Alert Service Bulletin J41-A53-058, dated December 6, 2016.

(ii) BAE Systems (Operations) Limited Service Bulletin J41-51-001, Revision 4, dated July 11, 2017.

(5) The following service information was approved for IBR on May 16, 2016 (81 FR 21263, April 11, 2016).

(i) Chapter 05, “Airworthiness Limitations,” of the BAE Systems (Operations) Limited J41 Aircraft Maintenance Manual (AMM), Revision 38, dated September 15, 2013.

Note 3 to paragraph (q)(5)(i): Page 1 of the “Publications Transmittal” is the only page that shows the revision level of this document.

(A) Subject 05-10-10, “Airworthiness Limitations.”

(B) Subject 05-10-20, “Certification Maintenance Requirements.”

(C) Subject 05-10-30, “Critical Design Configuration Control Limitations (CDCCL)—Fuel System.”

(ii) [Reserved]

(6) For service information identified in this AD, contact BAE Systems (Operations) Limited, Customer Information Department, Prestwick International Airport, Ayrshire, KA9 2RW, Scotland, United Kingdom; telephone +44 1292 675207; fax +44 1292 675704; email RApublications@baesystems.com; website regional-services.com.

(7) You may view this service information at the FAA, Airworthiness Products Section, Operational Safety Branch, 2200 South 216th St., Des Moines, WA. For information on the availability of this material at the FAA, call 206-231-3195.

(8) You may view this service information that is incorporated by reference at the National Archives and Records Administration (NARA). For information on the availability of this material at NARA, email fr.inspection@nara.gov, or go to: www.archives.gov/federal-register/cfr/ibr-locations.html.

Issued on January 20, 2023.
Gaetano A. Sciortino,
Acting Director, Compliance & Airworthiness Division, Aircraft Certification Service.

[FR Doc. 2023-02526 Filed 2-6-23; 8:45 am]

BILLING CODE 4910-13-P